DEPARTMENT OF JUSTICE

Federal Bureau Of Prisons

Notice of the Availability of the Draft Environmental Assessment for the Proposed Federal Correctional Institution—Hazelton, WV

AGENCY: U.S. Department of Justice, Federal Bureau of Prisons.

ACTION: Public Comment on Draft Environmental Assessment.

SUMMARY: The U.S. Department of Justice, Federal Bureau of Prisons (BOP) announces the availability of the Draft Environmental Assessment (EA) for the proposed development of a Federal Correctional Institution (FCI) to be located in Hazelton, Preston County, West Virginia.

The BOP is seeking to expand the facilities that currently exist at BOP's USP Hazelton facility due to a growing population of federal inmates and an increased demand in the Mid-Atlantic Region for facilities to house the growing inmate population.

Background Information

Pursuant to Section 102(2)(c) of the National Environmental Policy Act of 1969 and the Council of Environmental Quality Regulations (40 CFR parts 1500-1508), BOP has prepared a Draft Environmental Assessment (EA) for a medium-security FCI to house approximately 1,200 adult male inmates in Hazelton, West Virginia.

USP Hazelton occupies 915 acres and is currently comprised of a high-security penitentiary housing approximately 1,608 male inmates, a Secured Female Facility (SFF) housing approximately 623 female inmates and a Federal Prison Camp (FPC) housing approximately 124 low-security inmates. Environmental studies were conducted before the construction of the USP Hazelton and the FPC in 1999, and the SFF in 2000. It is the intent of the BOP to construct the FCI on a portion of the existing 915 acres currently owned by BOP.

Project Information

The proposed action in Hazelton, West Virginia, is part of the BOP's comprehensive expansion effort to accommodate an increasing federal inmate population and reduce system-wide inmate crowding. The proposed action would consist of construction and operation of a medium-security FCI at the existing USP Hazelton facility. The principal function of the correctional facility would be to provide a safe, secure and humane environment for the care and custody of federal inmates, primarily from the Mid-Atlantic region of the country. Upon activation, the facility would have a staff of approximately 250 full-time employees who would provide 24-hour supervision. Development of the proposed facility will occur on 250 acres of the 915 acres comprising the existing USP Hazelton facilities. An Environmental Impact Statement (EIS) was prepared for the original development of the 915-acre site in 1999 and additional environmental studies were prepared for further development of the site in 2000. The current EA is being undertaken to evaluate current environmental, cultural and socioeconomic resources and potential impacts of the proposed FCI. The previous NEPA documents included the area currently being evaluated in this EA.

Notice of Availability of the Draft Environmental Assessment

The BOP evaluated alternatives as part of the Draft EA including the No Action Alternative and development of three alternative placements of the facility on the proposed site. Each of the alternatives located on the 250-acre site in Hazelton, West Virginia, was evaluated in the Draft EA, with the development of Option C being identified by the Draft EA as the Preferred Alternative.

The Draft EA will be the subject of a 30-day review period which begins February 29, 2008 and ends March 30, 2008. Comments concerning the Draft EA and the proposed action must be received during this time to be assured of consideration. All written comments received during this review period will be taken into consideration by the BOP.

Copies of the Draft EA are available for public viewing at:

Preston County Courthouse, 101 West Main Street, Room 101, Kingwood, WV 26537.

Kingwood Public Library, 205 West Main Street, Kingwood, WV 26537.

Terra Alta Public Library, 701B East State Avenue, Terra Alta, WV 26764.

The Draft EA and other information regarding this project are available upon request. To request a copy of the Draft EA, please contact:

Pamela J. Chandler, Chief, or Issac J. Gaston, Site Selection Specialist, Site Selection and Environmental Review Branch, Federal Bureau of Prisons, 320 First Street, NW., Washington, DC 20534 Tel: 202-514-6470, Fax: 202-616-6024 / E-mail: pchandler@bop.gov or igaston@bop.gov.

FOR FURTHER INFORMATION CONTACT: Pamela J. Chandler, or Issac J. Gaston, Federal Bureau of Prisons.

Dated: February 22, 2008.
Issac J. Gaston,
Site Specialist, Site Selection and Environmental Review Branch.

[FR Doc. E8-3680 Filed 2-28-08; 8:45 am]

BILLING CODE 4410-05-P